ENVIRONMENTAL PROTECTION AGENCY

40 CFR Part 52

[TX-104-1-7401b; FRL-7160-1]

Approval And Promulgation of Implementation Plans; Texas; Revisions to General Rules and Regulations for Control of Air Pollution by Permits for New Sources and Modifications

AGENCY: Environmental Protection Agency (EPA).

ACTION: Proposed rule; reopening of public comment period.

SUMMARY: The EPA is reopening the public comment period for a proposed approval of revisions to the Texas State Implementation Plan (SIP) published in the Federal Register on September 24, 2001.

DATES: Written comments must be received by EPA on or before April 19, 2002.

ADDRESSES: Written comments on this action should be addressed to Mr. David W. Neleigh, Chief, Air Permits Section (6PD-R), at the EPA Region 6 Office listed below. Copies of documents relevant to this action are available for public inspection during normal business hours at the following locations. Anyone wanting to examine these documents should make an appointment with the appropriate office at least two working days in advance.

Environmental Protection Agency, Region 6, Air Permits Section (6PD-R), 1445 Ross Avenue, Dallas, Texas 75202-2733.

Texas Natural Resource Conservation Commission, Office of Air Quality, 12124 Park 35 Circle, Austin, Texas 78753.

FOR FURTHER INFORMATION CONTACT: Stanley M. Spruiell, Air Permits Section at (214) 665-7212 or at spruiell.stanley@epa.gov.

SUPPLEMENTARY INFORMATION: In response to a request from the public, EPA is reopening the comment period for a proposed rule published in the Federal Register on September 24, 2001 (66 FR 48850), for approval of revisions to the Texas Natural Resource Conservation Commission (TNRCC) General Rules and TNRCC Regulations for Control of Air Pollution by Permits for New Sources and Modifications in the Texas SIP. These revisions were submitted by the Governor of Texas on August 31, 1993, and July 22, 1998. See the information provided in the direct final rule (66 FR 48796) located in the final rules section and the proposed rule (66 FR 48850) located in the proposed rules section of the September 24, 2001, Federal Register. The direct final rule was withdrawn November 23, 2001 (66 FR 58667).

List of Subjects in 40 CFR Part 52

Environmental protection, Air pollution control, Carbon monoxide, Intergovernmental relations, Lead, Nitrogen oxides, Ozone, Particulate matter, Reporting and recordkeeping requirements, Sulfur oxides, Volatile organic compounds.

Authority: 42 U.S.C. 7401 et seq.

Dated: March 11, 2002.
Lawrence E. Starfield,
Acting Regional Administrator, Region 6.

[FR Doc. 02-6721 Filed 3-19-02; 8:45 am]

BILLING CODE 6560-50-P